FEDERAL MEDIATION AND CONCILIATION SERVICE

Senior Executive Service Performance Review Board

AGENCY: Federal Mediation and Conciliation Service (FMCS).

ACTION: Notice of senior executive service performance review board.

SUMMARY: The Federal Mediation and Conciliation Service (FMCS) is issuing this notice to inform the public of the names of the members of the Agency's Senior Executive Service (SES) Performance Review Board.

DATES: This SES Performance Review Board is effective September 12, 2023.

FOR FURTHER INFORMATION CONTACT: Anna Davis, General Counsel, 202-606-3737, ogc@fmcs.gov, 250 E St. SW, Washington, DC 20427.

SUPPLEMENTARY INFORMATION: Sec. 4314(c)(1) through (5) of title 5, U.S.C., requires each agency to establish, in accordance with regulations prescribed by the Office of Personnel Management, one or more performance review boards. The board shall review and evaluate the initial appraisal of a senior executive's performance by the supervisor, along with any recommendations to the appointing authority relative to the performance of the senior executive.

The members of FMCS's Performance Review Board are:

1. Adrienne Adger, Acting Human Resource Director (Chair and non-voting member), Federal Mediation and Conciliation Service

2. Javier Ramirez, Deputy Director, Field Operations, Federal Mediation and Conciliation Service

3. Marla Hendrickkson, External Career SES member, Food and Drug Administration

4. Cynthia Washington, Director of Procurement, Federal Mediation and Conciliation Service

5. Beth Schindler, Associate Deputy Director, Field Operations, Regional, Federal Mediation and Conciliation Service

Dated: September 6, 2023.
Anna Davis,
General Counsel.

[FR Doc. 2023-19605 Filed 9-11-23; 8:45 am]

BILLING CODE 6732-01-P